DEPARTMENT OF THE INTERIOR

Fish and Wildlife Service

[FWS-HQ-MB-2015-N228; 91400-5110-0000; 91400-9410-0000]

Multistate Conservation Grant Program; Fiscal Year 2015 Priority List and Approval for Conservation Projects

AGENCY: Fish and Wildlife Service, Interior.

ACTION: Notice of receipt of priority list and approval of projects.

SUMMARY: We, the U.S. Fish and Wildlife Service (Service), announce the Fiscal Year (FY) 2015 priority list of wildlife and sport fish conservation projects from the Association of Fish and Wildlife Agencies (AFWA). As required by the Wildlife and Sport Fish Restoration Programs Improvement Act of 2000, AFWA submits a list of projects to us each year to consider for funding under the Multistate Conservation Grant Program. We have reviewed the list and have awarded all the grants from the list.

ADDRESSES: John C. Stremple, Multistate Conservation Grants Program Coordinator, Wildlife and Sport Fish Restoration Program, U.S. Fish and Wildlife Service, 5275 Leesburg Pike, MS: WSFR, Falls Church, VA 22041-3808.

FOR FURTHER INFORMATION CONTACT: John C. Stremple, (703) 358-2156 (phone) or John_Stremple@fws.gov (email).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the restoration acts, for a total of up to $6 million annually. Projects can be funded from both funds depending on the project activities. We may award grants to projects from a list of priority projects recommended to us by the Association of Fish and Wildlife Agencies. The Service Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation for at least 26 States, for a majority of the States in any one Service Region, or for one of the regional associations of State fish and wildlife agencies. We may award grants to a State, a group of States, or one or more nongovernmental organizations. For the purpose of carrying out the National Survey of Fishing, Hunting, and Wildlife-Associated Recreation, we may award grants to the Service, if requested by AFWA, or to a State or a group of States. Also, AFWA requires all project proposals to address its National Conservation Needs, which AFWA announces annually at the same time it requests proposals. Further, applicants must provide certification that no activities conducted under a Multistate Conservation Grant will promote or encourage opposition to regulated hunting or trapping of wildlife, or to regulated angling or taking of fish.

AFWA committees and interested nongovernmental organizations that represent conservation organizations, sportsmen's and women's organizations, and industries that support or promote fishing, hunting, trapping, recreational shooting, bowhunting, or archery review and rank eligible project proposals. AFWA's Committee on National Grants recommends a final list of priority projects to the directors of the State fish and wildlife agencies for their approval by majority vote. By statute, AFWA then transmits the final approved list to the Service for funding under the Multistate Conservation Grant program by October 1 of the fiscal year. This year, AFWA sent us a list of 17 projects that they recommended for funding. We have awarded all of the recommended projects for FY 2015. The list follows:

Multistate Conservation Grant Program
[FY 2015 Projects]
ID | Title | Submitter | PR Funding ¹ | DJ Funding ² | Total 2015 grant
1 | Multistate Conservation Grant Program Coordination | AFWA | $43,560 | $43,560 | $87,120
2 | State Fish and Wildlife Agency Administration and Coordination | AFWA | 149,160 | 149,160 | 298,320.50
3 | State Fish and Wildlife Agency Director Travel Administration and Coordination | AFWA | 64,075 | 64,075 | 128,150
4 | Coordination of Farm Bill Program Implementation to Optimize Fish and Wildlife Benefits to States | AFWA | 124,500 | 83,000 | 207,500
5 | Coordination of the Industry, Federal and State Agency Coalition | AFWA | 108,480 | 108,480 | 216,960
6 | Understanding the Trends in Public Values toward Wildlife as a Key to Meeting Current and Future Wildlife Management Challenges | MAFWA & WAFWA | 226,933.50 | 226,933.50 | 453,867
7 | Educating Lawyers, Law Students, students of all ages the judiciary and the general public on state fish and wildlife management: Implementing AFWA's 2013-2015 Strategic Plan Goal 2 | AFWA | 100,000 | 100,000 | 200,000
8 | Hunting, Fishing, and Sport Shooting Recruitment and Retention: A Practitioner's Guide | NSSF | 69,865.05 | 69,865.05 | 139,730.10
9 | National Survey of Ownership and Use of Traps by Trappers in the United States and evaluation of the use and implementation of BMPs by state fish and wildlife agencies | AFWA | 145,500 | 0 | 145,500
10 | Promoting Strategic Fish Habitat Conservation through Regionally-coordinated Science and Collaboration | NFHB | 0 | 521,600 | 521,600
11 | Development and Implementation of a National Initiative for Hunter and Shooting Sports Recruitment, Retention, and Reactivation | WMI and CAHSS | 207,900 | 0 | 207,900
12 | Improving the Conservation of Fish and Wildlife Populations and Habitats During Energy Exploration, Development and Transmission Through Enhanced Industry/Agency Coordination | AFWA | 58,125 | 58,125 | 116,250
13 | Boosting Fishing Participation by Boat Owners | ASA | 0 | 60,000 | 60,000
14 | Professional Development Workshops for effective communication and outreach regarding regulated trapping, established Best Management Practices, and furbearer management | Max McGraw Wildlife Foundation | 116,150 | 0 | 116,150
15 | Coordination of the 2016 National Survey Efforts (part A) | FWS | 123,437 | 123,437 | 246,874
16 | 50 State Surveys Related to Fishing, Hunting, and Wildlife-Associated Recreation (part B) | Rockville Institute (Westat) | 279,822 | 279,822 | 559,644
17 | National-Level Results for the 2016 Survey of Fishing, Hunting and Wildlife-Associated Recreation (part A) | FWS/U.S. Census Bureau | 407,903 | 407,903 | 815,806
|  |  | 2,225,410.55 | 2,295,960.55 | 4,521,371.10
¹ PR Funding: Pitman-Robertson Wildlife Restoration funds.
² DJ Funding: Dingell-Johnson Sport Fish Restoration funds.
AFWA: Association of Fish and Wildlife Agencies.
ASA: American Sportfishing Association.
CAHSS: Council to Advance Hunting and the Shooting Sports.
NFHB: National Fish Habitat Board.
NSSF: National Shooting Sports Foundation.
MAFWA: Midwest Association of Fish and Wildlife Agencies.
WAFWA: Western Association of Fish and Wildlife Agencies.
WMI: Wildlife Management Institute.

Dated: December 15, 2014.
Stephen Guertin,
Deputy Director, U.S. Fish and Wildlife Service.

[FR Doc. 2015-06097 Filed 3-17-15; 8:45 am]

BILLING CODE 4310-55-P